ENVIRONMENTAL PROTECTION AGENCY

40 CFR Part 52

[CA 260-0339b; FRL-7174-6]

Revisions to the California State Implementation Plan, Tehama County Air Pollution Control District

AGENCY: Environmental Protection Agency (EPA).

ACTION: Proposed rule.

SUMMARY: EPA is proposing to approve revisions to the Tehama County Air Pollution Control District (TCAPCD) portion of the California State Implementation Plan (SIP). These revisions concern Oxides of Nitrogen (NOX) emissions from industrial, institutional, and commercial boilers, steam generators, process heaters, and stationary gas turbines. We are proposing to approve local rules that regulate these emission sources under the Clean Air Act as amended in 1990 (CAA or the Act).

DATES: Any comments on this proposal must arrive by June 13, 2002.

ADDRESSES: Mail comments to Andy Steckel, Rulemaking Office Chief (AIR-4), U.S. Environmental Protection Agency, Region IX, 75 Hawthorne Street, San Francisco, CA 94105-3901.

You can inspect copies of the submitted SIP revisions and EPA's technical support documents (TSDs) at our Region IX office during normal business hours. You may also see copies of the submitted SIP revisions at the following locations:

California Air Resources Board, Stationary Source Division, Rule Evaluation Section, 1001 “I” Street, Sacramento, CA 95812

Tehama County Air pollution Control District, P.O. Box 38 (1750 Walnut St.), Red Bluff, CA 96008-0038.

FOR FURTHER INFORMATION CONTACT: Charnjit Bhullar, Rulemaking Office (Air-4), U.S. Environmental Protection Agency, Region IX, (415) 972-3960.

SUPPLEMENTARY INFORMATION: This proposal addresses local rules, TCAPCD 4:31 and 4:37. In the Rules and Regulations section of this Federal Register, we are approving these local rules in a direct final action without prior proposal because we believe this SIP revision is not controversial. If we receive adverse comments on the direct final rule, however, we will publish a timely withdrawal of the direct final rule and address the comments in subsequent action based on this proposed rule. Anyone interested in commenting should do so at this time, we do not plan to open a second comment period. If we do not receive adverse comments on the direct final rule, no further activity is planned. For further information, please see the direct final action.

Dated: April 5, 2002.
Keith Takata,
Acting Regional Administrator, Region IX.

[FR Doc. 02-11824 Filed 5-13-02; 8:45 am]

BILLING CODE 6560-50-P